DEPARTMENT OF THE INTERIOR

National Park Service

[N6362; NPS-WASO-NAGPRA-NPS0040628; PPWOCRADN0-PCU00RP14.R50000]

Notice of Intended Repatriation: Autry Museum of the American West, Los Angeles, CA

AGENCY: National Park Service, Interior.

ACTION: Notice.

SUMMARY: In accordance with the Native American Graves Protection and Repatriation Act (NAGPRA), the Autry Museum of the American West intends to repatriate certain cultural items that meet the definition of unassociated funerary objects, sacred objects, and/or objects of cultural patrimony and that have a cultural affiliation with the Indian Tribes or Native Hawaiian organizations in this notice.

DATES: Repatriation of the cultural items in this notice may occur on or after August 29, 2025.

ADDRESSES: Send additional, written requests for repatriation of the cultural items in this notice to Karimah Richardson, Autry Museum of the American West, 4700 Western Heritage Way, Los Angeles, CA 90027, email krichardson@theautry.org.

SUPPLEMENTARY INFORMATION: This notice is published as part of the National Park Service's administrative responsibilities under NAGPRA. The determinations in this notice are the sole responsibility of the Autry Museum of the American West, and additional information on the determinations in this notice, including the results of consultation, can be found in the summary or related records. The National Park Service is not responsible for the determinations in this notice.

Abstract of Information Available

A total of one cultural item has been requested for repatriation. The object of cultural patrimony is one smoothing stone. Sometime between 1911-1933, Mr. Clifford Park Baldwin, collected the cultural item from an unknown site in Morongo Valley, San Bernardino County, CA. In 1993, Mr. Baldwin sold it to the Southwest Museum (now part of the Autry Museum of the American West). The object is considered cultural patrimony, as the tribes have stated it is significant to both the Cahuilla and Serrano people.

A total of one cultural item has been requested for repatriation. The object of cultural patrimony is one olla. In 1933, Miss Marjorie Dougan collected the olla from an unknown site in Morongo Valley, San Bernardino County, CA. Miss Dougan donated the olla to the Southwest Museum in 1964. The object is considered cultural patrimony, as the tribes have stated it is significant to both the Cahuilla and Serrano people.

A total of one cultural item has been requested for repatriation. The object of cultural patrimony is one ceramic bowl. Dr. Oscar S. Brown collected the pottery bowl circa 1904 from possibly Morongo Vally in San Bernardino County, CA. His daughter, Miss Brown, donated the cultural item to the Southwest Museum in 1944. The object is considered cultural patrimony, as the tribes have stated it is significant to both the Cahuilla and Serrano people.

A total of 14 cultural items have been requested for repatriation. The 14 sacred objects are five pottery ollas, two pottery bowls, six pottery spindle whorls, and one pottery miniature bowl. Sometime between 1932-1934, Mrs. Pearly Alice Othelia Compton collected the cultural items from a cave in an unknown site in Morongo Valley, San Bernardino County, CA. Mr. John F. Compton. In 1970, her husband, Mr. John F. Compton, donated the cultural items to the Southwest Museum. The objects are considered sacred as they were found in a cave.

Determinations

The Autry Museum of the American West has determined that:

• The 14 sacred objects described in this notice are specific ceremonial objects needed by a traditional Native American religious leader for present-day adherents to practice traditional Native American religion, according to the Native American traditional knowledge of a lineal descendant, Indian Tribe, or Native Hawaiian organization.

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Agua Caliente Band of Cahuilla Indians of the Agua Caliente Indian Reservation, California; Cahuilla Band of Indians; Morongo Band of Mission Indians, California; Ramona Band of Cahuilla, California; Soboba Band of Luiseno Indians, California; and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 30, 2025. If competing requests for repatriation are received, the Autry Museum of the American West must determine the most appropriate requestor prior to repatriation. Requests for joint repatriation of the cultural items are considered a single request and not competing requests. The Autry Museum of the American West is responsible for sending a copy of this notice to the Indian Tribes and Native Hawaiian organizations identified in this notice and to any other consulting parties.

Authority: Native American Graves Protection and Repatriation Act, 25 U.S.C. 3004 and the implementing regulations, 43 CFR 10.9.

Dated: July 16, 2025.
Mariah Soriano,
Acting Manager, National NAGPRA Program.

[FR Doc. 2025-14364 Filed 7-29-25; 8:45 am]

BILLING CODE 4312-52-P